DEPARTMENT OF AGRICULTURE

Rural Housing Service

Notice of Timeframe for Section 533 Housing Preservation Grants for Fiscal Year 2004

AGENCY: Rural Housing Service, USDA.

ACTION: Notice.

SUMMARY: The Rural Housing Service (RHS) announces that it is soliciting competitive applications under its Housing Preservation Grant (HPG) program. RHS is publishing this Notice prior to passage of a final appropriations act to give applicants the maximum amount of time possible to complete their applications, and to provide the Agency sufficient time to select and process the selected applications within the current fiscal year. Although a Notice of Funding Availability (NOFA) outlining the level of funding for the program will be published after enactment of a final appropriation act, no additional time for submitting applications will be included in the NOFA. Applications must be submitted within the timeframe set forth in this Notice. Because the Agency's appropriations act has not been passed, applicants are cautioned that the Agency cannot make commitments based on the anticipated funding. Expenses incurred in developing applications will be at the applicant's risk.

The HPG program is a grant program which provides qualified public agencies, private nonprofit organizations, and other eligible entities grant funds to assist very low- and low-income homeowners to repair and rehabilitate their homes in rural areas, and to assist rental property owners and cooperative housing complexes to repair and rehabilitate their units if they agree to make such units available to low- and very low-income persons. This action is taken to comply with Agency regulations found in 7 CFR part 1944, subpart N, which require the Agency to announce the opening and closing dates for receipt of preapplications for HPG funds from eligible applicants. The intended effect of this Notice is to provide eligible organizations notice of these dates.

Discussion of Anticipated Funding for Fiscal Year (FY) 2004

The FY 2003 funding level for the section 533 program was $9,935,000. To the extent an appropriation act provides funding for HPG grants in FY 2004, the actual funds available for FY 2004 will be published at a later date in a subsequent Notice.

DATES: The closing deadline for receipt of all applications in response to this Notice is 5 p.m., local time for each Rural Development State Office on May 6, 2004. The application closing deadline is firm as to date and hour. RHS will not consider any application that is received after the closing deadline. Applicants intending to mail applications must provide sufficient time to permit delivery on or before the closing deadline date and time. Acceptance by the United States Postal Service or private mailer does not constitute delivery. Facsimile (FAX) and postage due applications will not be accepted.

ADDRESSES: Applicants wishing to apply for assistance must contact the Rural Development State Office serving the place in which they desire to submit an application to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office

Suite 601, Sterling Centre, 4121 Carmichael Road, Montgomery, AL 36106-3683, (334) 279-3400, TDD (334) 279-3495, James B. Harris.

Alaska State Office

800 West Evergreen, Suite 201, Palmer, AK 99645, (907) 761-7740, TDD (907) 761-8905, Deborah Davis.

Arizona State Office

Phoenix Corporate Center, 3003 N. Central Ave., Suite 900, Phoenix, AZ 85012-2906, (602) 280-8765, TDD (602) 280-8706, Johnna Vargas.

Arkansas State Office

700 W. Capitol Ave., Rm. 3416, Little Rock, AR 72201-3225, (501) 301-3258, TDD (501) 301-3063, Clinton King.

California State Office

430 G Street, #4169, Davis, CA 95616-4169, (530) 792-5830, TDD (530) 792-5848, Jeff Deiss.

Colorado State Office

655 Parfet Street, Room E100, Lakewood, CO 80215, (720) 544-2923, TDD (800) 659-2656, Mary Summerfield.

Connecticut

Served by Massachusetts State Office.

Delaware and Maryland State Office

4607 South Dupont Highway, PO Box 400, Camden, DE 19934-9998, (302) 697-4353, TDD (302) 697-4303, Pat Baker.

Florida & Virgin Islands State Office

4440 NW. 25th Place, Gainesville, FL 32606-6563 (352) 338-3465, TDD (352) 338-3499, Joseph P. Fritz.

Georgia State Office

Stephens Federal Building, 355 E. Hancock Avenue, Athens, GA 30601-2768, (706) 546-2164, TDD (706) 546-2034, Wayne Rogers.

Guam

Served by Hawaii State Office.

Hawaii State Office

(Services all Hawaii, American Samoa and Western Pacific), Room 311, Federal Building, 154 Waianuenue Avenue, Hilo, HI 96720, (808) 933-8309, TDD (808) 933-8321, Thao Khamoui.

Idaho State Office

Suite A1, 9173 West Barnes Dr., Boise, ID 83709, (208) 378-5628, TDD (208) 378-5644, LaDonn McElligott.

Illinois State Office

2118 West Park Court, Suite A, Champaign, IL 61821-2986, (217) 403-6222, TDD (217) 403-6240, Barry L. Ramsey.

Indiana State Office

5975 Lakeside Boulevard, Indianapolis, IN 46278, (317) 290-3100 (ext. 423), TDD (317) 290-3343, John Young.

Iowa State Office

210 Walnut Street Room 873, Des Moines, IA 50309, (515) 284-4493, TDD (515) 284-4858, Julie Sleeper.

Kansas State Office

1303 SW First American Place, Suite 100, Topeka, KS 66604-4040, (785) 271-2721, TDD (785) 271-2767, Virginia M. Hammersmith.

Kentucky State Office

771 Corporate Drive, Suite 200, Lexington, KY 40503, (859) 224-7325, TDD (859) 224-7422, Beth Moore.

Louisiana State Office

3727 Government Street, Alexandria, LA 71302, (318) 473-7962, TDD (318) 473-7655, Yvonne R. Emerson.

Maine State Office

967 Illinois Ave., Suite 4, PO Box 405, Bangor, ME 04402-0405, (207) 990-9110, TDD (207) 942-7331, Dale Holmes.

Maryland

Served by Delaware State Office.

Massachusetts, Connecticut, & Rhode Island State Office

451 West Street Suite 2, Amherst, MA 01002, (413) 253-4315, TDD (413) 253-4590, Paul Geoffroy.

Michigan State Office

3001 Coolidge Road, Suite 200, East Lansing, MI 48823, (517) 324-5192, TDD (517) 337-6795, Philip Wolak.

Minnesota State Office

375 Jackson Street Building, Suite 410, St. Paul, MN 55101, (651) 602-7804, TDD (651) 602-7830, Joyce Vondal.

Mississippi State Office

Federal Building, Suite 831, 100 W. Capitol Street, Jackson, MS 39269, (601) 965-4325, TDD (601) 965-5850, Darnella Smith-Murray.

Missouri State Office

601 Business Loop 70 West, Parkade Center, Suite 235, Columbia, MO 65203, (573) 876-9303, TDD (573) 876-9480, Betty Eftink.

Montana State Office

Unit 1, Suite B, 900 Technology Blvd., Bozeman, MT 59715, (406) 585-2551, TDD (406) 585-2562, Deborah Chorlton.

Nebraska State Office

Federal Building, room 152, 100 Centennial Mall N., Lincoln, NE 68508, (402) 437-5035, TDD (402) 437-5093, Sharon Kluck.

Nevada State Office

1390 South Curry Street, Carson City, NV 89703-9910, (775) 887-1222 (ext. 25), TDD (775) 885-0633, Angilla Denton.

New Hampshire State Office

Concord Center, Suite 218, Box 317, 10 Ferry Street, Concord, NH 03301-5004, (603) 223-6046, TDD (603) 229-0536, Jim Fowler.

New Jersey State Office

5th Floor North, Suite 500, 8000 Midlantic Drive, Mt. Laurel, NJ 08054, (856) 787-7740, TDD (856) 787-7784, George Hyatt, Jr..

New Mexico State Office

6200 Jefferson St., NE., Room 255, Albuquerque, NM 87109, (505) 761-4944, TDD (505) 761-4938, Carmen N. Lopez.

New York State Office

The Galleries of Syracuse, 441 S. Salina Street, Suite 357 5th Floor, Syracuse, NY 13202, (315) 477-6404, TDD (315) 477-6447, Tia Baker.

North Carolina State Office

4405 Bland Road, Suite 260, Raleigh, NC 27609, (919) 873-2066, TDD (919) 873-2003, William A. Hobbs.

North Dakota State Office

Federal Building, Room 208, 220 East Rosser, PO Box 1737, Bismarck, ND 58502, (701) 530-2046, TDD (701) 530-2113, Barry Borstad.

Ohio State Office

Federal Building, Room 507, 200 North High Street, Columbus, OH 43215-2477, (614) 255-2418, TDD (614) 255-2554, Melodie Taylor-Ward.

Oklahoma State Office

100 USDA, Suite 108, Stillwater, OK 74074-2654, (405) 742-1070, TDD (405) 742-1007, Ivan Graves.

Oregon State Office

101 SW Main, Suite 1410, Portland, OR 97204-3222, (503) 414-3325, TDD (503)414-3387, Bill Daniel.

Pennsylvania State Office

One Credit Union Place, Suite 330, Harrisburg, PA 17110-2996, (717) 237-2282, TDD (717) 237-2261, Marth E. Hanson.

Puerto Rico State Office

IBM Building, Suite 601, Munoz Rivera Ave. #654, San Juan, PR 00918, (787) 766-5095 (ext. 249), TDD (787) 766-5332, Lourdes Colon.

Rhode Island

Served by Massachusetts State Office.

South Carolina State Office

Strom Thurmond Federal Building, 1835 Assembly Street, Room 1007, Columbia, SC 29201, (803) 253-3432, TDD (803) 765-5697, Larry D. Floyd.

South Dakota State Office

Federal Building, Room 210, 200 Fourth Street, SW., Huron, SD 57350, (605) 352-1135, TDD (605) 352-1147, Roger Hazuka.

Tennessee State Office

Suite 300, 3322 West End Avenue, Nashville, TN 37203-1084, (615) 783-1375, TDD (615) 783-1397, Larry Kennedy.

Texas State Office

Federal Building, Suite 102, 101 South Main, Temple, TX 76501, (254) 742-9758, TDD (254) 742-9712, Julie Hayes.

Utah State Office

Wallace F. Bennett Federal Building, 125 S. State Street, Room 4311, Salt Lake City, UT 84138, (801) 524-4323, TDD (801) 524-3309, Dave Brown.

Vermont State Office

City Center, 3rd Floor, 89 Main Street, Montpelier, VT 05602, (802) 828-6028, TDD (802) 223-6365, Sandra Mercier.

Virgin Islands

Served by Florida State Office.

Virginia State Office

Culpeper Building, Suite 238, 1606 Santa Rosa Road, Richmond, VA 23229, (804) 287-1596, TDD (804) 287-1753, CJ Michels.

Washington State Office

1835 Black Lake Blvd., Suite B, Olympia, WA 98512, (360) 704-7731, TDD (360) 704-7742, Robert L. Lund.

Western Pacific Territories

Served by Hawaii State Office.

West Virginia State Office

Federal Building, 75 High Street, Room 320, Morgantown, WV 26505-7500, (304) 284-4889, TDD (304) 284-4836, Craig St. Clair.

Wisconsin State Office

4949 Kirschling Court, Stevens Point, WI 54481, (715) 345-7608 (ext.151), TDD (715) 345-7614, Sherry Engel.

Wyoming State Office

100 East B, Federal Building, Room 1005, PO Box 820, Casper, WY 82602, (307) 261-6315, TDD (307) 261-6333, Jack Hyde.

FOR FURTHER INFORMATION CONTACT: For general information, applicants may contact Tammy S. Daniels, Loan Specialist, Multi-Family Housing Processing Division, Rural Housing Service, United States Department of Agriculture, Stop 0781, 1400 Independence Avenue, SW., Washington, DC, 20250-0781, telephone (202) 720-0021 (voice) (this is not a toll free number) or (800) 877-8339 (TDD-Federal Information Relay Service).

SUPPLEMENTARY INFORMATION:

Programs Affected

This program is listed in the Catalog of Federal Domestic Assistance under Number 10.433, Rural Housing Preservation Grants. This program is subject to the provisions of Executive Order 12372 which requires intergovernmental consultation with State and local officials (7 CFR part 3015, subpart V). Applicants are referred to 7 CFR 1944.674 and 1944.676(f) and (g) for specific guidance on these requirements relative to the HPG program.

Application Requirements

7 CFR part 1944, subpart N provides details on what information must be contained in the preapplication package. Entities wishing to apply for assistance should contact the Rural Development State Office to receive further information, the State allocation of funds if and when a final appropriation act is enacted providing funding for the HPG Program, and copies of the preapplication package. Eligible entities for these competitively awarded grants include state and local governments, nonprofit corporations, Federally recognized Indian Tribes, and consortia of eligible entities.

Federally recognized Indian Tribes are exempt from the requirement found in 7 CFR 1944.674 that the applicant announce the availability of its statement of activities for review in a newspaper, provided a notice is sent to all tribal members in the area or some other acceptable manner of notification is used, and provided that this is accomplished within the timeframes that are specified in 7 CFR 1944.674.

As part of the application, all applicants must also provide a Dun and Bradstreet Data Universal Numbering System (DUNS) number. As required by the Office of Management and Budget (OMB), all grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (Vol. 68, No. 124, pages 38402-38405).

To comply with the President's Management Agenda, the Department of Agriculture is participating as a partner in the new government-wide Grants.gov site in FY 2004. Housing Preservation Grants (Catalog of Federal Domestic Assistance # 10.433) is one of the programs included at this website. If you are an applicant under the Housing Preservation Grant Program, you may submit your application to the Agency in either electronic or paper format. Please be mindful that the application deadline for electronic format differs from the deadline for paper format. The electronic format deadline will be based on Washington DC time. The paper format deadline is local time for each Rural Development State Office.

Users of Grants.gov will be able to download a copy of the application package, complete it off line, and then upload and submit the application via the Grants.gov site. You may not e-mail an electronic copy of a grant application to RHS; however, the Agency encourages your participation in Grants.gov.

• When you enter the Grants.gov site, you will find information about submitting an application electronically through the site as well as the hours of operation. RHS strongly recommends that you do not wait until the application deadline date to begin the application process through Grants.gov. To use Grants.gov, applicants must have a DUNS number.

• You may submit all documents electronically through the website, including all information typically included on the application for Rural Housing Preservation Grants, and all necessary assurances and certifications.

• Your application must comply with any page limit requirements described in this Notice.

• After you electronically submit your application through the website, you will receive an automatic acknowledgement from Grants.gov that contains a Grants.gov tracking number.

• RHS may request that you provide original signatures on forms at a later date.

• If you experience technical difficulties on the closing date and are unable to meet the 5 p.m. (Washington, DC time) deadline, print out your application and submit it to your State Office. If you must submit the application to your State Office, you must meet the closing date and local time deadline.

You may access the electronic grant application for Housing Preservation Grants at: http://www.grants.gov.

Please note that you must locate the downloadable application package for this program by the CFDA Number or FedGrants Funding Opportunity Number, which can be found at http://www.fedgrants.gov.

Funding Information

The funding instrument for the HPG Program will be a grant agreement. The term of the grant can vary from 1 to 2 years, depending on available funds and demand. No maximum or minimum grant levels have been established at the National level. If and when a final appropriation act is enacted providing funding for the HPG Program, you should contact the Rural Development State Office to determine the allocation and the State maximum grant level, if any. From funds available for the HPG Program, there will be monies set aside for grants located in Empowerment Zones, Enterprise Communities, and Rural Economic Area Partnership Zones and other funds will be distributed under a formula allocation to States pursuant to 7 CFR part 1940, subpart L.

Dated: February 2, 2004.
Arthur A. Garcia,
Administrator, Rural Housing Service.

[FR Doc. 04-2593 Filed 2-5-04; 8:45 am]

BILLING CODE 3410-XV-P